DEPARTMENT OF TRANSPORTATION

Federal Railroad Administration

[Docket Number FRA-2011-0012]

Petition for Waiver of Compliance

In accordance with Part 211 of Title 49 of the Code of Federal Regulations (CFR), notice is hereby given that the Federal Railroad Administration (FRA) has received a request for a waiver of compliance from certain requirements of its safety standards.

In a letter dated January 27, 2011, the Hoosier Valley Railroad Museum, Inc. (HVRM) of North Judson, IN, petitioned for a permanent waiver of compliance for one switching locomotive (HVRM 11) from the requirements of 49 CFR part 223, Railroad Safety Glazing Standards, which require certified glazing in all windows. The request was assigned Docket Number FRA-2011-0012. This 95-ton diesel-electric locomotive, built by General Electric (s/n 31517) in Erie, PA, in May of 1952, is equipped with safety glass that is in good condition, clear and unscratched. The locomotive is used on a semiregular basis to primarily pull excursion trains over trackage owned by the Town of North Judson and operated by the Chesapeake and Indiana Railroad (CKIN). CKIN trackage, over which this locomotive is operated, is in a very rural area (mostly farmland); and there have been no issues with glass vandalism in the past. The maximum speed for movement over CKIN trackage is 15 mph for passenger trains and the locomotive itself is geared to a maximum speed of 25 mph. HVRM states that they are a 501(c)(3) nonprofit organization with the mission to preserve railroad history in northwest Indiana and would very much like to keep the locomotive's as-built appearance. Moreover the expense of retrofitting the subject locomotive with FRA-certified glazing will impose a high financial burden.

Pursuant to the receipt of the waiver request, FRA is hereby providing the public an opportunity to comment on this waiver. Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2011-0012) and must be submitted to the Docket Clerk, Docket Operations Facility, U.S. Department of Transportation, 1200 New Jersey Avenue SE., W12-140, Washington, DC 20590.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of all comments received into any of our dockets by the name of the individual submitting the comment (or signing the comment, if submitted on behalf of an association, business, labor union, etc.). You may review the U.S. Department of Transportation's complete Privacy Act Statement in the Federal Register published on April 11, 2000 (Volume 65, Number 70; Pages 19477-78), or online at http://www.dot.gov/privacy.html.

Issued in Washington, DC, on February 2, 2012.
Michael W. Lestingi,
Acting Director for the Office of Safety Assurance and Compliance.

[FR Doc. 2012-2744 Filed 2-6-12; 8:45 am]

BILLING CODE 4910-06-P